DEPARTMENT OF HEALTH AND HUMAN SERVICES

National Institutes of Health

Office of the Director, National Institutes of Health; Notice of Meeting

Pursuant to section 10(a) of the Federal Advisory Committee Act, as amended (5 U.S.C. Appendix 2), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: November 7, 2001.

Time: 8:30 a.m. to Adjournment.

Agenda: International research to develop AIDS therapeutic approaches for resource-poor areas of the world.

Place: Building 31, Conference Room 6C10, Bethesda, MD 20892.

Contact Person: Linda J. Reck, Chief, Program Planning and Evaluation, Office of Aids Research, National Institutes of Health, Building 2, Room 4W01, Bethesda, MD 20892, (301) 402-8655, reck@od.nih.gov.

Information is also available on the Institute's/Center's home page: www.nih.gov/od/oar/index.htm, where an agenda and any additional information for the meeting will be posted when available.

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)
Dated: October 23, 2001.
LaVerne Y. Stringfield,
Director, Office of Federal Advisory Committee Policy.

[FR Doc. 01-27146 Filed 10-26-01; 8:45 am]

BILLING CODE 4140-01-M